DEPARTMENT OF EDUCATION

Smaller Learning Communities Program

Catalog of Federal Domestic Assistance (CFDA) Number: 84.215L.

AGENCY: Office of Elementary and Secondary Education, Department of Education.

ACTION: Notice of proposed priorities, requirements, definition, and selection criteria.

SUMMARY: The Assistant Secretary for Elementary and Secondary Education proposes priorities, requirements, a definition, and selection criteria under the Smaller Learning Communities (SLC) program. The Assistant Secretary will use these priorities, requirements, definition, and selection criteria, in addition to any other previously established priorities and requirements, for a competition using fiscal year (FY) 2009 funds and may use them in later years. We take this action to focus Federal financial assistance on an identified national need. We intend these priorities, requirements, definition, and selection criteria to enhance the effectiveness of SLC projects in improving academic achievement and helping to prepare students for postsecondary education and careers.

DATES: We must receive your comments on or before April 30, 2010.

ADDRESSES: Address all comments about the proposed priorities, requirements, definition, and selection criteria to Angela Hernandez-Marshall, U.S. Department of Education, 400 Maryland Avenue, SW., LBJ, Room 3E308, Washington, DC 20202-6200.

If you prefer to send your comments through the Internet, use the following address: smallerlearningcommunities@ed.gov. You must include the term “SLC Proposed Requirements” in the subject line of your electronic message.

FOR FURTHER INFORMATION CONTACT: Angela Hernandez-Marshall. Telephone: (202) 205-1909 or by e-mail: smallerlearningcommunities@ed.gov.

If you use a telecommunications device for the deaf (TDD), call the Federal Relay Service (FRS), toll-free, at 1-800-877-8339.

SUPPLEMENTARY INFORMATION:

Invitation to Comment: We invite you to submit comments regarding this notice. To ensure that your comments have maximum effect in developing the notice of final priorities, requirements, definition, and selection criteria, we urge you to identify clearly the specific proposed priority, requirement, definition, or selection criterion that each comment addresses.

We invite you to assist us in complying with the specific requirements of Executive Order 12866 and its overall requirement of reducing regulatory burden that might result from the proposed priorities, requirements, definition, and selection criteria. Please let us know of any further ways we could reduce potential costs or increase potential benefits while preserving the effective and efficient administration of the program.

During and after the comment period, you may inspect all public comments about this notice in room 3E308, 400 Maryland Avenue, SW., Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The SLC program awards discretionary grants to local educational agencies (LEAs) to support the restructuring of large public high schools (i.e., schools with enrollments of 1,000 or more students) into smaller units for the purpose of improving academic achievement in large public high schools. These smaller units include freshman academies, multi-grade academies organized around career interests or other themes, “houses” in which small groups of students remain together throughout high school, and autonomous schools-within-a-school. These structural changes are typically complemented by other personalization strategies, such as student advisories, family advocate systems, and mentoring programs.

Program Authority: 20 U.S.C. 7249.

Applicable Program Regulations: (a) The Education Department General Administrative Regulations (EDGAR) in 34 CFR parts 75, 77, 79, 80, 81, 82, 84, 85, 97, 98, and 99. (b) The final priority, requirements, definitions, and selection criteria published in the Federal Register on April 28, 2005 (70 FR 22233) (the 2005 SLC NFP). (c) The notice of final priority, requirements, and selection criteria published in the Federal Register on May 18, 2007 (72 FR 28426) (the 2007 SLC NFP).

Background: Creating a more personalized learning experience for students has been a prominent part of high school improvement efforts in recent years. Several evaluations have found, generally, that the implementation of SLCs and complementary personalization strategies can reduce disruptive behavior, create a more orderly environment for learning, and increase student attendance and graduation rates (Lee and Smith 1995; Wasley et al., 2000; McMullan, Sipe, and Wolf, 1994; Quint, 2006; National Research Council, 2004). Dropout Prevention: A Practice Guide, published in 2008 by the Institute of Education Sciences' What Works Clearinghouse, recommended that schools implement SLCs and other personalization strategies as part of a comprehensive approach to reducing the dropout rate (Institute of Education Sciences, 2008).

However, evaluation data have not shown that these structural changes and personalization strategies, by themselves, improve student academic achievement and readiness for postsecondary education and careers. Student learning gains have been seen only in those schools that also have made considerable changes in curriculum and instruction (Bernstein, et al., 2005; Kahne, Sporte, et al., 2006; Quint, 2006; Rhodes, Smerdon, 2005). Similarly, some large comprehensive high schools that have not implemented SLCs have significantly increased student achievement in reading or mathematics and narrowed achievement gaps by implementing more rigorous courses, providing extra support to struggling students, and systematically using data to improve instruction (ACT, Inc. and the Education Trust, 2005; Billig, Jaime, et al., 2005; National Center for Educational Accountability, 2005; Robinson, et al., 2005).

For these reasons, we are proposing priorities and selection criteria that are specifically intended to promote the close integration of SLC implementation with systematic efforts to improve curriculum and instruction. We also propose certain other requirements and a definition to clarify statutory provisions, improve the management of grant activities, facilitate the review of applications, and promote the equitable distribution of limited SLC grant funds.

Note: As used in this notice, the terms smaller learning community and large high school have the meanings assigned to them in the 2005 SLC NFP.

Proposed Priorities: This notice contains two proposed priorities. These proposed priorities would be in addition to the priority established in the 2007 SLC NFP (Preparing All Students to Succeed in Postsecondary Education and Careers).

Proposed Priority 1: Common Planning Time for Teachers

Background: Providing teachers with regular and ongoing opportunities for structured collaboration and planning during or immediately following the school day is considered by many researchers and practitioners to be key to improving instruction and ensuring that students receive the academic and personal supports they need to achieve at high levels. For example, this practice is common among many high-performing schools, including, particularly, those with high concentrations of economically disadvantaged or low-achieving students (Mass Insight Education and Research Institute, 2007; Odden, 2007; Dyke, 2008; Herman, et al., 2008; Education Resource Strategies, 2009; Perlman and Redding, 2009; Strozier, 2009). In these high-performing schools, common planning time is used for a variety of activities, including the analysis of student work and outcome data, collaborative professional development and instructional coaching, and developing or coordinating the implementation of curricula and assessments. By providing teachers with regular and ongoing opportunities for collaboration, these schools also promote a strong sense of shared responsibility among teachers for improving student academic achievement (Louis and Marks, 1998; Symonds, 2004; Mass Insight Education and Research Institute, 2007; Silva, 2009).

For these reasons, we propose a priority to allow grantees to use SLC funds to pay the necessary personnel and other costs associated with increasing common planning time for teachers. Under the proposed priority, applicants could, for example, propose to use grant funds to hire additional teachers, pay substitute teachers, or extend the school day in order to provide teachers with more time for common planning and collaboration.

Under the proposed priority, we would not require that grantees increase common planning time for all teachers within a school. Instead, grantees could choose to focus on a single grade level, such as ninth grade, or on particular content areas.

We believe that this proposed priority will help enhance the effectiveness of SLC projects in improving academic achievement and the preparation of students for postsecondary education and careers by ensuring that students receive the academic and personal supports they need to achieve.

Proposed Priority 1—Common Planning Time for Teachers

This proposed priority would support projects that increase the amount of time regularly provided to teachers who share the same students or teach the same academic subject for common planning and collaboration during or immediately following the school day without decreasing the amount of time provided to teachers for individual planning and preparation. To meet this priority, the common planning time must be used for one or more of the following activities:

(1) Structured examination of student work and outcome data.

(2) Collaborative professional development and coaching, including classroom observation.

(3) Identifying instructional and other interventions for struggling students.

(4) Curriculum and assessment development.

Proposed Priority 2: Persistently Lowest-Achieving Schools—Secondary Schools

Background: The Secretary has established a goal of turning around, over the next five years, the 5,000 lowest-achieving schools nationwide as part of a comprehensive strategy for dramatically reducing the drop-out rate, improving high school graduation rates, and increasing the number of students who graduate prepared for success in college and the workplace.

The SLC program can be an important source of funding to support turnaround efforts in a State's persistently lowest-achieving high schools. For this reason, we propose to establish a priority for SLC projects that include one or more schools that have been identified by a State as a persistently lowest-achieving school.

Proposed Priority 2—Persistently Lowest-Achieving Schools—Secondary Schools

This proposed priority would support SLC projects that include one or more schools that have been identified by a State as a persistently lowest-achieving school.

For the purpose of this priority, the term “persistently lowest-achieving school” is defined as it is under the Department's State Fiscal Stabilization Fund Program (see 74 FR 58436, 58487), School Improvement Grants (see 74 FR 65618, 65652), and Race to the Top Fund (see 74 FR 59836, 59840).

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by either (1) awarding additional points, depending on the extent to which the application meets the competitive priority (34 CFR 75.105(c)(2)(i)); or (2) selecting an application that meets the priority over an application of comparable merit that does not meet the priority (34 CFR 75.105(c)(2)(ii)).

Invitational priority: Under an invitational priority we are particularly interested in applications that meet the invitational priority. However, we do not give an application that meets the priority a preference over other applications (34 CFR 75.105(c)(1)).

Proposed Requirements: The Assistant Secretary for Elementary and Secondary Education proposes the following requirements for this program. We may apply these requirements in any year in which this program is in effect.

Note: These proposed requirements would be in addition to the application requirements required under title V, part D, subpart 4, section 5441(b) of the ESEA, and the following requirements established in the 2005 SLC NFP and the 2007 SLC NFP:

Requirement | Notice
Consortium Applications and Educational Service Agencies | 2005 SLC NFP.
Student Placement | 2005 SLC NFP.
Including All Students | 2005 SLC NFP.
Indirect Costs | 2007 SLC NFP.
Required Meetings Sponsored by the Department | 2007 SLC NFP.
Previous Grantees | 2007 SLC NFP.

Proposed Requirement 1—Budget and Performance Periods

Background: In the 2007 SLC NFP, we established a requirement pursuant to which SLC grant funds were awarded in two increments over a 60-month performance period: An initial award for the first 36 months of the performance period and a continuation award for the remaining 24 months of the performance period. Through this Proposed Budget and Performance Periods requirement, we would reduce the duration of the initial award from 36 to 24 months and make continuation awards annually thereafter. We propose this change because making the initial award for a period of 24 months would give grantees until the end of the second school year after the award is made (i.e., the 2011-12 school year) to implement all or most of the components of their projects and demonstrate substantial progress. As we do not expect to make new awards until after the start of the 2010-2011 school year, we recognize that grantees likely will need more than 12 months to implement their projects fully and demonstrate substantial progress. Further, we propose the change to 24 months, based on our belief that, an SLC grantee that requires more than an initial 24 months to show progress is likely experiencing significant management problems and may not merit continued funding. For similar reasons, we are proposing to make continuation awards annually after this initial 24 month budget period. SLC grantees should be able to demonstrate each year that they are continuing to make substantial progress in implementing their projects. In addition, making continuation awards on an annual basis will better ensure that SLC grantees do not receive more funds than they are able to expend to implement their projects. For a variety of reasons, some SLC grantees have been unable to expend all of the funds they requested at the time they submitted their applications. As a result, a number of SLC grantees have returned significant amounts of funds to the United States Treasury when their grants have ended.

Proposed Budget and Performance Periods: Grantees will be awarded implementation grants for a period up to 60 months, with the initial award to provide funding for the first 24 months of the performance period. Funding for the remainder of the performance period will be made annually, contingent on the availability of funds and each grantee's substantial progress toward accomplishing the goals and objectives of the project as described in its approved application.

In its application, the applicant must provide detailed, yearly budget information for the total grant period requested.

Proposed Requirement 2—Maximum Award Amounts and Number of Schools

Background: In order to ensure that applicants have sufficient funding for the personnel expenditures likely needed to meet the requirements of Proposed Priority 1—Common Planning Time for Teachers (i.e., increasing the amount of time that teachers are provided regularly for common planning and collaboration), we are proposing to increase the maximum, 60-month award amounts per school by $750,000. Based on our informal consultations with LEA and school officials in different parts of the country, we believe that this additional $750,000 should be sufficient to support a significant increase in common planning time for teachers in at least one grade level of the school.

In addition, we are proposing to reduce the number of schools that an LEA may apply on behalf of in a single application from eight to five because, in the past, many grantees have experienced great difficulties managing and overseeing project activities at more than five schools. In such cases, implementation progress has been slow and uneven and several grantees decided to remove one or more schools from their grants.

Finally, through this requirement, we are proposing that applications requesting more funds than the maximum amounts specified for any school or for the total grant will not be read as part of the regular application process. In previous SLC competitions, some applicants requested more funds than the amount that we indicated would be available for a grant. These applications included activities that could only be implemented if the applicants received a funding amount that exceeded the maximum amount specified by the Department. This strategy put at a competitive disadvantage other applicants that requested funds within the Department's specified funding range and proposed a less extensive set of activities. For this reason, we propose to review only those applications that request an amount that does not exceed the maximum amounts specified for the grants.

Proposed Maximum Award Amounts and Number of Schools: An eligible LEA may receive, on behalf of a single school, up to $2,500,000 of SLC grant funds, depending upon student enrollment in the school, for the entire 60-month project period.

The following chart provides the ranges of awards per high school size:

SLC Grant Award Ranges
Student enrollment | Award ranges per school
1,000-2,000 Students | $1,750,000-$2,000,000
2,001-3,000 Students | 1,750,000-2,250,000
3,001 and Up | 1,750,000-2,500,000

An LEA may include up to five schools in a single application for a SLC grant. Therefore, an LEA applying on behalf of a group of eligible schools would be able to receive up to $12,500,000 for its SLC grant.

Applications requesting more funds than the maximum amounts specified for any school or for the total grant will not be read as part of the regular application process. However, if, after the Secretary selects applications to be funded, it appears that additional funds remain available, the Secretary has the option of reviewing applications that requested funds exceeding the maximum amounts specified. Under this requirement, if the Secretary chooses to fund any of the additional applications, selected applicants will be required to work with the Department to revise their proposed budgets to fit within the appropriate funding range.

Proposed Requirement 3—Performance Indicators

Background: While creating SLCs can appeal to teachers, students, and parents for many reasons, their fundamental purpose is to improve academic achievement and student success after high school. Therefore, it is important that assistance provided under the SLC program support and enhance the efforts of LEAs and schools to improve student academic achievement and preparation for and enrollment in postsecondary education.

In order to ensure that SLC projects ultimately achieve these important outcomes, we must ensure that each funded SLC project measures its progress in improving student academic achievement and related outcomes. For this reason, we propose to continue to measure the progress of grantees using two indicators: (1) Student performance on reading/language arts and mathematics assessments and (2) high school graduation rates (these two indicators are reflected in paragraphs (1) and (2) of the Performance Indicators included in the 2007 SLC NFP). These are the same indicators used by States to measure the progress of LEAs and high schools under Part A of Title I of the ESEA. We propose that performance objectives for these indicators equal or exceed the annual measurable objectives established by the State in its approved accountability plan for Part A of Title I of the ESEA. Because school-level data for these indicators are now available to the Department through using the EDEN Submission System (ESS), it is unnecessary for the Department to continue to collect them directly from grantees.

We also propose to continue measuring the extent to which the graduates of each school included in an SLC grant enter postsecondary education in the semester following high school graduation. Because enrolling in postsecondary education is a nearly universal aspiration among high school students and their parents, we believe that this measurement continues to be useful and we believe that grantees should be held accountable for helping them achieve this goal. We propose that performance objectives for this indicator exceed the baseline level of performance and give particular emphasis to narrowing any gaps between students in general and economically disadvantaged students, students from major racial and ethnic groups, students with disabilities, and students with limited English proficiency. Because data for this indicator are not reported by SEAs through ESS (an electronic system that facilitates the efficient and timely transmission of data from SEAs to the Department), we propose to continue to require grantees to provide these data on an annual basis. We further propose to require grantees to use administrative records that document student enrollment in postsecondary education as the principal source of data for this indicator because these data are likely to be more accurate and less costly to obtain than information gathered through student and parent surveys. Because these administrative records may not provide data on all of a school's graduates (e.g., in the case of most State longitudinal databases, students who enroll in postsecondary education in another State), we propose to permit grantees to supplement the data obtained from administrative records with information gathered through surveys that are administered after high school graduation.

Proposed Performance Indicators: Each applicant must identify in its application the following specific performance indicators as well as the annual performance objectives to be used for each of these indicators. Specifically, each applicant must use the following performance indicators to measure the progress of each school included in its application:

(a) The percentage of students who score at or above the proficient level on the reading/language arts and mathematics assessments used by the State to determine whether a school has made adequate yearly progress under Part A of Title I of the ESEA, as well as these percentages disaggregated by subject matter and the following subgroups:

(1) Major racial and ethnic groups.

(2) Students with disabilities.

(3) Students with limited English proficiency.

(4) Economically disadvantaged students.

(b) The school's graduation rate, as defined in the State's approved accountability plan for Part A of Title I of the ESEA, as well as the graduation rates for the following subgroups:

(1) Major racial and ethnic groups.

(2) Students with disabilities;

(3) Students with limited English proficiency; and

(4) Economically disadvantaged students; and

(c) The percentage of all graduates who enroll in postsecondary education in the semester following high school graduation, as well as the percentage disaggregated by the following subgroups:

(1) Major racial and ethnic groups.

(2) Students with disabilities.

(3) Students with limited English proficiency.

(4) Economically disadvantaged students.

Each applicant must identify in its application its performance objectives for each of these indicators for each year of the project period and provide baseline data for the third indicator (postsecondary enrollment). The Department will obtain baseline data for the first and second performance indicators (student performance on reading/language arts and mathematics assessments and the graduation rate) and data on the extent to which each school included in a grant achieves its annual performance objectives for each year of the project period from the data that are now reported to the Department by SEAs using the EDEN Submission System (ESS). Grantees are not required to provide these data.

Each grantee must report to the Department annually on the extent to which each school in its grant achieves its performance objectives for the third proposed indicator (postsecondary enrollment).

Finally, grantees must use administrative records maintained by State, national, or regional entities that already collect data on student enrollment in postsecondary education as the principal source of data for this performance indicator. These administrative records include, for example, data available through State longitudinal databases or other sources. Grantees may supplement these records with data collected through surveys administered to students or parents after graduation.

Proposed Requirement 4—School Report Cards

Background: In the 2005 SLC NFP, we established a requirement for the SLC program pursuant to which applicants were required to include school report cards with their applications to verify the accuracy of the student achievement they reported. This requirement created a significant paperwork burden for many applicants because, in some States and LEAs, school report cards are expansive, extending over 10 to 20 pages. With school-level student achievement data now available to the Department through ESS, it is no longer necessary to require applicants to provide school report cards to verify the accuracy of the student achievement data they report in their applications.

Proposed School Report Cards Requirement: No applicant is required to include in its application any report card for the schools included in its application.

Proposed Requirement 5—Evidence of Eligibility

Background: We propose to require each applicant to provide, along with its application, the name of, and other identifying information about, each school included in its application and evidence of each such school's enrollment during the current or most recently completed school year. This information is necessary so that the Department can verify that each of the schools in the applicant's application meets the program's eligibility requirements. We propose to require that evidence of enrollment consist of information reported by the LEA to the SEA or produced by the SEA so that there is no ambiguity for applicants about the evidence that they must submit to establish school eligibility.

Proposed Evidence of Eligibility Requirement: LEAs, including schools funded by the Bureau of Indian Education and educational service agencies, applying on behalf of large public high schools, are eligible to apply for a grant. We will not accept applications from LEAs applying on behalf of schools that are being constructed and do not have an active student enrollment at the time of application. LEAs may apply on behalf of no more than five schools. Along with its application, each applicant must provide, for each school included in its application:

(a) The school's name, postal mailing address, and the 12-digit identification number assigned the school by the National Center for Education Statistics; and

(b) Evidence that, during the current school year or the most recently completed school year, the school is a large public high school (i.e., an entity that includes grades 11 and 12 and has an enrollment of 1,000 or more students in grades 9 and above (see Definitions in 2005 SLC NFP) and, thus, is eligible to receive assistance under this program.

To meet this requirement, the enrollment figures provided in the evidence must be based upon data from the current school year or the most recently completed school year. In addition, this evidence must include a copy of either:

(a) The form or report that the LEA submits to the SEA to report the school's student enrollment (or student membership, as it is sometimes described) on or around October 1 of each year.

(b) A document provided by the SEA that identifies the school's enrollment on or around October 1 of each year.

Proposed Requirement 6—Evaluation

Background: In the 2005 SLC NFP, we established requirements that each SLC grantee support an independent, formative evaluation of its project that reported its findings to the grantee (i.e., its LEA) on not less than an annual basis. Each grantee was required to provide each annual evaluation report to the Department at the same time it reported annually on its progress in implementing its project. The purpose of this requirement was to provide the project director and other LEA and school personnel information that would be useful in gauging the project's progress and identifying areas for improvement. The Department also provided grantees with technical assistance materials to help them secure qualified evaluators and evaluations that would produce information to more effectively manage their projects. After carefully reviewing the annual evaluation reports that have been submitted by grantees since FY 2006, we have concluded that, generally, this requirement has not achieved its intended purpose. For the most part, grantees have not chosen to commission evaluations that provide them with useful implementation information or have not used the information provided by these evaluations to improve their management of their projects. Instead, many grantees have commissioned evaluations chiefly to comply with our requirement. Given the often considerable cost of these evaluations and their limited usefulness to grantees, we believe it would be prudent to cease to require grantees to commission them. A grantee may still choose to use grant funds to support a project evaluation if the evaluation is related clearly to the goals of the project and necessary for the proper and efficient performance and administration of the grant award.

Proposed Evaluation Requirement: We propose to eliminate the requirement established by the 2005 SLC NFP that each applicant provide assurances that it will support an evaluation of the project that will produce an annual report for each year of the performance period.

Proposed Requirement 7—Grant Award Administration

Background: The responsibilities of a project director for an SLC grant include coordinating grant activities to ensure that they are carried out on time and within budget, overseeing the fiscal management of the project, and fulfilling performance reporting and other requirements established by the Department. We propose to establish a minimum time commitment for this position to ensure that the project director has sufficient time to carry out these responsibilities. In our experience, many of the grants in which the time commitment of the project director was less than the minimum we are proposing have experienced significant implementation delays. In some cases, these grant recipients were unable to implement key elements of their approved applications. We note that under our proposal, applicants could continue to include the salary and other costs of the project director in their proposed budgets.

Proposed Grant Award Administration: Grantees must designate a single project director who will be principally responsible for overseeing the implementation of the proposed project and communicating with the Department.

Each grantee must ensure that its designated project director—for a grant that includes one school—be not less than fifty percent of a full-time equivalent (FTE) position and that the time commitment of a project director for a grant that includes more than one school be not less than one FTE.

Proposed Requirement 8—Use of Funds for Equipment

Background: While we recognize that equipment can be an effective tool for enhancing instruction and improving student achievement and is essential to carrying out a variety of administrative activities, numerous other sources of funds are available to LEAs and schools to acquire equipment. We, therefore, propose to limit the use of SLC grant funds for the purchase or use of equipment in order to focus grant funds on the personnel, technical assistance, professional development and other costs related to implementing significant structural and instructional reforms that will improve student academic achievement and preparation for postsecondary education.

Proposed Use of Funds for Equipment Requirement: For each budget period of the grant award, a grantee may not use more than one percent of the total grant award for the acquisition of equipment (as that term is defined in this notice).

Proposed Definition:

Background: We are proposing to define the term equipment because we propose to limit the use of SLC grant funds for the purchase of equipment elsewhere in this notice. Under Office of Management and Budget Circular A-87, Cost Principles for State, Local, and Indian Tribal Governments, an item is considered to be “equipment” if, among other things, it is nonexpendable, tangible personal property having a useful life of more than one year and has an acquisition cost which equals or exceeds the lesser of the capitalization level established by the governmental unit for financial statement purposes, or $5,000. We are proposing to reduce the acquisition cost threshold to the lesser of the capitalization level established by the governmental unit for financial statement purposes or $500 in order to include laptop and desktop computers, printers, and other office and classroom equipment that some SLC grantees have sought to purchase with grant funds.

Proposed Definition:

In addition to the definitions set out in the authorizing statute, 34 CFR 77.1, and the 2005 SLC NFP, we propose that the following definition also apply to this program:

Equipment means an article of nonexpendable, tangible personal property that has a useful life of more than one year and that has an acquisition cost which equals or exceeds the lesser of the capitalization level established by the governmental unit for financial statement purposes, or $500. It includes, but is not limited to, office equipment and furnishings, modular offices, telephone networks, information technology equipment and systems, air conditioning equipment, reproduction and printing equipment, and motor vehicles.

Proposed Selection Criteria:

The Assistant Secretary for Elementary and Secondary Education proposes the following selection criteria for evaluating an application under this program. We may apply one or more of these criteria in any year in which this program is in effect. These proposed selection criteria are intended to replace the selection criteria established for the SLC program in the 2005 SLC NFP and the 2007 SLC NFP.

In the notice inviting applications or the application package or both we will announce the maximum possible points assigned to each criterion.

(a) Quality of the Project Design. In determining the quality of the design of the proposed project, we will consider the extent to which—

(1) Teachers, school administrators, parents, and community stakeholders support the proposed project and have been and will continue to be involved in its development and implementation;

(2) The applicant has carried out sufficient planning and preparatory activities to enable it to implement the proposed project during the school year in which the grant award will be made;

(3) School administrators, teachers, and other school employees will receive effective, ongoing technical assistance and professional development in implementing structural and instructional reforms and providing effective instruction; and

(4) The applicant demonstrates that the proposed project is aligned with and advances a coordinated, district-wide strategy to improve student academic achievement and preparation for postsecondary education and careers without need for remediation.

(b) Quality of Project Services. In determining the quality of the services to be provided by the proposed project, we will consider the extent to which the proposed project is likely to be effective in—

(1) Creating an environment in which multiple teachers and other adults within the school know the needs, interests, and aspirations of each student well, closely monitor each student's progress, and provide the academic and other support each student needs to succeed;

(2) Equipping all students with the reading/English language arts, mathematics, and science knowledge and skills they need to succeed in postsecondary education and careers without need for remediation;

(3) Helping students who enter high school with reading/English language arts or mathematics skills that are significantly below grade-level to “catch up” and attain, maintain and exceed proficiency by providing supplemental instruction and supports to these students during the ninth grade and, to the extent necessary, in later grades;

(4) Increasing the amount of time regularly provided to teachers for common planning and collaboration during or immediately following the school day, without decreasing the amount of time provided to teachers for individual planning and preparation;

(5) Ensuring, through technical assistance, professional development, and other means, that teachers use opportunities for common planning and collaboration effectively to improve instruction and student academic achievement;

(6) Increasing the participation of students, particularly low-income students, in Advanced Placement, International Baccalaureate, or dual credit courses (such as dual enrollment or early college programs) that offer students the opportunity to earn simultaneously both high school and college credit; and

(7) Increasing the percentage of students who enter postsecondary education in the semester following high school graduation by delivering comprehensive guidance and academic advising to students and their parents that includes assistance in selecting courses and planning a program of study that will provide the academic preparation needed to succeed in postsecondary education, early and ongoing college awareness and planning activities, and help in identifying and applying for financial aid for postsecondary education.

(c) Support for Implementation. In determining the adequacy of the support the applicant will provide for implementation of the proposed project, we will consider the extent to which—

(1) The management plan is likely to achieve the objectives of the proposed project on time and within budget and includes clearly defined responsibilities and detailed timelines and milestones for accomplishing project tasks; and

(2) The project director and other key personnel are qualified and have sufficient authority to carry out their responsibilities, and their time commitments are appropriate and adequate to implement the SLC project effectively.

(d) Need for the Project. In determining the need for the proposed project, we will consider the extent to which the applicant has identified specific gaps and weaknesses in the preparation of all students for postsecondary education and careers without need for remediation, the nature and magnitude of those gaps and weaknesses, and the extent to which the proposed project will address those gaps and weaknesses effectively.

Final Priorities, Requirements, Definition, and Selection Criteria

We will announce the final priorities, requirements, definition, and selection criteria in a notice in the Federal Register. We will determine the final priorities, requirements, definitions, and selection criteria after considering responses to this notice and other information available to the Department. This notice does not preclude us from proposing additional priorities, requirements, definitions, and selection criteria, subject to meeting applicable rulemaking requirements.

Note: This notice does not solicit applications. In any year in which we choose to use one or more of these priorities, requirements, definition, and selection criteria, we invite applications through a notice in the Federal Register.

Executive Order 12866: This notice has been reviewed in accordance with Executive Order 12866. Under the terms of the order, we have assessed the potential costs and benefits of this regulatory action.

The potential costs associated with this proposed regulatory action are those resulting from statutory requirements and those we have determined as necessary for administering this program effectively and efficiently.

In assessing the potential costs and benefits—both quantitative and qualitative—of this proposed regulatory action, we have determined that the benefits of the proposed priorities, requirements, definition, and selection criteria justify the costs.

We have determined, also, that this regulatory action does not unduly interfere with State, local, and tribal governments in the exercise of their governmental functions.

Discussion of Costs and Benefits: Elsewhere in this notice we discuss the potential costs and benefits, both quantitative and qualitative, of the proposed priorities, requirements, definition, and selection criteria under the background sections to the Priorities, Requirements, Definition, and Selection Criteria.

Paperwork Reduction Act of 1995 (PRA)

Certain sections of the proposed priorities, requirements, definition, and selection criteria for the SLC grant program contain changes to information collection requirements already approved by the Office of Management and Budget (OMB) under OMB control number 1810-0676 (1890-0001). We will be publishing a separate notice in the Federal Register requesting comments on these changes.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: March 26, 2010.
Thelma Meléndez de Santa Ana,
Assistant Secretary for Elementary and Secondary Education.

[FR Doc. 2010-7255 Filed 3-30-10; 8:45 am]

BILLING CODE 4000-01-P